DEPARTMENT OF JUSTICE

Notice of Lodging of Proposed Consent Decree Under the Clean Water Act

On September 19, 2023, the Department of Justice lodged a proposed Consent Decree (the “Consent Decree”) with the District Court of the Southern District of New York in a lawsuit entitled United States of America, et al. v. City of Mount Vernon., Civil Action No. 18-5845.

In this action, the United States and State of New York seek injunctive relief compelling the City of Mount Vernon to comply with the Clean Water Act in its operation of a municipal separate storm sewer system. The lawsuit also seeks civil penalties for past violations.

The proposed Consent Decree resolves the United States' and States' civil claims. It imposes injunctive relief requiring Mount Vernon to take steps necessary to bring its municipal separate storm sewer system into compliance. It also requires Mount Vernon to pay a $100,000 civil penalty to the United States and imposes (but suspends payment of) a $100,000 civil penalty owed to the State of New York.

The publication of this notice opens the public comment on the proposed settlement. Comments should be addressed to the Assistant Attorney General, Environment and Natural Resources Division, and should refer to United States of America, et al. v. City of Mount Vernon, DJ # 90-5-1-1-11743. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the settlement may be examined and downloaded at this Justice Department website: http://www.usdoj.gov/enrd/Consent_Decrees.html. We will provide a paper copy of the Consent Decree upon written request and payment of reproduction costs. The Consent Decree has voluminous exhibits, so please specify in your request whether you wish the exhibits to be included. Please mail your request and payment to: Consent Decree Library, U.S. DOJ—ENRD, P.O. Box 7611, Washington, DC 20044-7611.

Please enclose a check or money order for $11.75 (for the Consent Decree without exhibits) or $189.00 (for the Consent Decree with exhibits) (25 cents per page reproduction cost) payable to the United States Treasury.

Henry S. Friedman,
Assistant Section Chief, Environmental Enforcement Section, Environment and Natural Resources Division.

[FR Doc. 2023-21124 Filed 9-27-23; 8:45 am]

BILLING CODE 4410-15-P